DEPARTMENT OF ENERGY

Western Area Power Administration

Big Stone II Power Plant and Transmission Project Supplemental Draft Environmental Impact Statement (DOE/EIS-0377)

AGENCY: Western Area Power Administration, DOE.

ACTION: Notice of availability and public hearing.

SUMMARY: Western Area Power Administration (Western) announces the availability of the Supplemental Draft Big Stone II Power Plant and Transmission Project (Project) Environmental Impact Statement (Supplemental Draft EIS) for public review and comment. The U.S. Department of Agriculture Rural Utilities Service (RUS) and U.S. Department of Defense, U.S. Army Corps of Engineers (USACE), are participating as cooperating agencies in the EIS process. The Supplemental Draft EIS addresses the environmental impacts of a different back-up water supply plan that uses groundwater instead of surface water along with associated cooling alternatives for the proposed Big Stone II power plant's back-up water supply. The National Environmental Policy Act (NEPA) requires Western to make the Supplemental Draft EIS available to interested members of the public, groups, and Federal, State, local, and tribal agencies for review and comment to assure they have an opportunity to provide input to the Federal decision making process. Comments on the Supplemental Draft EIS may be provided in writing or at the hearing scheduled during the review period.

DATES: Western invites the public to comment on the Supplemental Draft EIS during the 45-day public review and comment period, which begins on October 26, 2007, and ends on Monday, December 10, 2007.

Western will hold one public hearing on November 13, 2007, at 7 p.m., at the Milbank Chamber of Commerce in Milbank, South Dakota.

ADDRESSES: The hearing will be held at the Milbank Chamber of Commerce, 1001 E. 4th Ave., Milbank, South Dakota.

Written comments on the Supplemental Draft EIS should be mailed, faxed, or e-mailed to: Ms. Nancy Werdel, NEPA Document Manager, Big Stone II EIS, A7400, Western Area Power Administration, P.O. Box 281213, Lakewood, CO 80228-8213, fax (720) 962-7263 or 7269, e-mail BigStoneEIS@wapa.gov.

FOR FURTHER INFORMATION CONTACT: For further information or to request a copy or summary of the Supplemental Draft EIS, please write Ms. Nancy Werdel, NEPA Document Manager, Big Stone II EIS, A7400, Western Area Power Administration, P.O. Box 281213, Lakewood, CO 80228-8213, fax (720) 962-7263 or 7269, e-mail BigStoneEIS@wapa.gov, or telephone her at (800) 336-7288.

For general information on DOE's NEPA review process, please contact: Carol M. Borgstrom, Director, Office of NEPA Policy and Compliance, GC-20, U.S. Department of Energy, Washington, DC 20585, (202) 586-4600 or (800) 472-2756.

SUPPLEMENTARY INFORMATION: In May 2006, Western Area Power Administration (Western) issued the Big Stone II Power Plant and Transmission Project Draft Environmental Impact Statement (Draft EIS). The Draft EIS described the details of the Proposed Action to construct a nominal 600-megawatt (MW), coal-fired, baseload electric generating facility and associated transmission line and substation upgrades, known as the Big Stone II Project (proposed Project). The primary source of water for the existing plant and the proposed Big Stone II plant would be withdrawals from Big Stone Lake. The proposed Project described in the Draft EIS included construction of a 450-acre surface water pond as the source of back-up water. The 450-acre surface water pond would have been filled with water from Big Stone Lake during normal operating conditions and used in the event of a drought or operational constraints, when sufficient quantities of water could not be pumped from Big Stone Lake. The Rural Utilities Service (RUS) and the U.S. Army Corps of Engineers (USACE) are participating as cooperating agencies in the EIS process.

The purpose of the Supplemental Draft EIS is to present and analyze the environmental impacts of using groundwater instead of surface water for the proposed Big Stone II power plant's back-up water supply along with different cooling alternatives. Changes to the proposed Project are based on comments received on the Draft EIS concerning wetland impacts from construction of the 450-acre water storage pond and additional construction costs associated with the pond.

The Council on Environmental Quality NEPA regulations (40 CFR 1502.9) and DOE NEPA regulations (10 CFR 1021.314) require that a supplement to a draft environmental impact statement be prepared if there are substantial changes to the Proposed Action or significant new circumstances or information relevant to environmental concerns, and contribute to the impacts of the Proposed Action. Western determined that the use of groundwater as the back-up water supply would significantly change the environmental impacts of the proposed Project as presented in the Draft EIS and required the preparation of a Supplemental Draft EIS.

The Supplemental Draft EIS considers two cooling technology alternatives with groundwater as the back-up water supply. Groundwater would be produced from the Veblen Aquifer. Both alternatives would use surface water from Big Stone Lake as the primary water source. Alternative 2 (wet cooling with groundwater back-up water supply), the Revised Proposed Action, retains the original wet cooling system technology identified in the Draft EIS but uses groundwater supply as its back-up water supply. Alternative 3 (wet/dry cooling with groundwater back-up water supply) would use a combined wet/dry cooling system. The dry portion would use an air-cooled condenser as a heat transfer mechanism and the wet portion of the system would be used in parallel to the dry system, as needed, to achieve full unit output on warmer days. Both alternatives would require installation of groundwater production wells and a pipeline system to convey groundwater to the proposed plant site. Other changes described in the Supplemental Draft EIS include plant water usage, water treatment, and wastewater management. There are no other significant changes to the Proposed Action as described in Section 2.2 of the Draft EIS.

The Supplemental Draft EIS evaluates the environmental impacts of the proposed Project on air quality, water resources (groundwater, floodplains, surface water), geology, minerals, paleontological resources, soils, biological resources (vegetation, wildlife, fisheries, special status species, wetland/riparian areas), cultural and historical resources, land use (land use planning, public facilities, recreation, agricultural practices and prime and unique farmland), infrastructure, public health, waste management, visual resources, noise, social and economic values, environmental justice, and cumulative impacts.

Western maintains a mailing list of those interested in the Big Stone II Project EIS. Copies of the complete Supplemental Draft EIS or the Executive Summary have been distributed to all persons and groups on the mailing list that requested a copy. A distribution has been made to various libraries in the proposed Project area.

Oral comments on the Supplemental Draft EIS will be accepted only during the public hearing scheduled for the date and location provided above. Those wishing to make oral comments may do so at the scheduled public hearing. Speakers will be asked to register at the door prior to the beginning of the hearing. Speakers are encouraged to provide a written version of their oral comments for the record. Each speaker will be allowed 5 minutes to present comments unless more time is requested and available. Comments will be recorded by a court reporter at the hearing and will become part of the public hearing record. Western will conduct an open house information session 2 hours prior to the public hearing to field questions and provide information to the public.

Copies of the Supplemental Draft EIS are available for public review at the offices and public libraries listed below:

Public Libraries

Ortonville Public Library, 412 Second Street Northwest, Ortonville, Minnesota.

Morris Public Library, 102 East 6th Street, Morris, Minnesota.

Granite Falls Public Library, 155 7th Avenue, Granite Falls, Minnesota.

Appleton Public Library, 322 W. Schlieman Avenue, Appleton, Minnesota.

Canby Public Library, 110 Oscar Avenue North, Canby, Minnesota.

Willmar Public Library, 410 5th Street Southwest, Willmar, Minnesota.

Kerkhoven Public Library, 208 10th Street North, Kerkhoven, Minnesota.

Benson Public Library, 200 13th Street South, Benson, Minnesota.

Grant County Public Library, 207 Park Avenue East, Milbank, South Dakota.

Watertown Regional Library, 611 Bruhn Avenue NE., Watertown, South Dakota.

The Draft EIS is also available at DOE Reading Rooms at the following addresses:

U.S. Department of Energy, Forrestal Building, Reading Room 1E-190, 1000 Independence Avenue, SW., Washington, DC 20585; Western Area Power Administration, Corporate Services Office, 12155 West Alameda Parkway, Lakewood, Colorado 80228; and Western Area Power Administration, Upper Great Plains Customer Service Region, South Dakota Maintenance Office, 200 4th Street, SW., Huron, South Dakota 57350.

Western will consider all written comments postmarked or received during the public comment period in preparing the Final EIS. Decisions by each of the involved Federal agencies will be made after considering comments on the Draft, Supplemental Draft, and Final EIS. The decisions to be made by Western, RUS, and USACE regarding the proposed Big Stone II Power Plant and Transmission Project will be issued following the Final EIS in the form of separate records of decision for each agency.

Dated: October 19, 2007.
Timothy J. Meeks,
Administrator.

[FR Doc. E7-21088 Filed 10-25-07; 8:45 am]

BILLING CODE 6450-01-P